DEPARTMENT OF THE INTERIOR

Bureau of Land Management

Meeting of the California Desert District Advisory Council

AGENCY: Bureau of Land Management, Interior.

ACTION: Notice of public meeting.

SUMMARY: Notice is hereby given, in accordance with Public Laws 92-463 and 94-579, that the California Desert District Advisory Council to the Bureau of Land Management, U.S. Department of the Interior, will participate in a field tour of BLM-administered public lands on Friday, June 23, 2006, from 7:30 a.m. to 5 p.m., and meet in formal session on Saturday, June 24 from 8 a.m. to 3 p.m. in Continental Labor Hall at the Desert Empire Fairgrounds, located at 520 South Richmond Road, Ridgecrest, California.

The Council and interested members of the public will depart for the field tour at 7:30 a.m. from the parking lot of the Best Western China Lake Inn, located at 400 South China Lake Boulevard in Ridgecrest. The public is welcome to participate in the tour, but should plan on providing their own transportation, drinks, and lunch.

Agenda topics for the formal session on Saturday will include updates by Council members and reports from the BLM District Manager and five field office managers. Additional agenda topics are being developed. Once finalized, the field tour and meeting agendas will be published in a news release prior to the meeting and posted on BLM's state Web site at http://www.blm.gov/ca/news/rac.html.

SUPPLEMENTARY INFORMATION: All Desert District Advisory Council meetings are open to the public. Public comment for items not on the agenda will be scheduled at the beginning of the meeting Saturday morning. Time for public comment may be made available by the Council Chairman during the presentation of various agenda items, and is scheduled at the end of the meeting for topics not on the agenda.

While the Saturday meeting is tentatively scheduled from 8 a.m. to 3 p.m., the meeting could conclude prior to 3 p.m. should the Council conclude its presentations and discussions. Therefore, members of the public interested in a particular agenda item or discussion should schedule their arrival accordingly.

Written comments may be filed in advance of the meeting for the California Desert District Advisory Council, c/o Bureau of Land Management, Public Affairs Office, 22835 Calle San Juan De Los Lagos, Moreno Valley, California 92553. Written comments also are accepted at the time of the meeting and, if copies are provided to the recorder, will be incorporated into the minutes.

FOR FURTHER INFORMATION CONTACT: Doran Sanchez, BLM California Desert District External Affairs, (951) 697-5220.

Dated: April 18, 2006.
Steven J. Borchard,
District Manager.

[FR Doc. E6-6337 Filed 4-26-06; 8:45 am]

BILLING CODE 4310-40-P